ENVIRONMENTAL PROTECTION AGENCY

[FRL-6605-9]

Notice of Intent To Prepare a Draft Supplemental Environmental Impact Statement for the Meramec River Enhancement and Wetlands Protection Project

AGENCY: Environmental Protection Agency (EPA).

ACTION: Notice.

SUMMARY: This document advises the public that the U.S. Environmental Protection Agency intends to develop a Draft Supplemental Environmental Impact Statement (DSEIS). The DSEIS will update a 1979 FEIS in order to re-evaluate the Federal actions relating to a proposed regionalization of wastewater treatment services within the Meramec River Basin in Missouri. The DSEIS will assist EPA in identifying and documenting the existing baseline environmental conditions in the project area, forecasting reasonably expected development within the basin, and analyzing alternatives with which to fulfill the wastewater treatment needs of the Meramec Basin. This assessment will be subsequently used to determine the environmental consequences of the proposed project and the significance of those consequences. The associated actions are: (1) Provision of grant funding to MSD for the construction of a Regional Wastewater Treatment Plant; (2) Identifying all required Federal permits, licences and entitlements.

This document is being furnished pursuant to the Council on Environmental Quality Regulations for Implementing the Procedural Provisions of the National Environmental Policy Act (NEPA) Regulations (40 CFR 1501.7 and 1508.22) to obtain suggestions and information from other agencies and the public on the scope of issues and alternatives to be considered in preparation of the DSEIS.

DATES: As an opportunity for interested persons to comment on the issues and alternatives of the DSEIS, a public scoping meeting is scheduled as follows: Wednesday, May 24, 2000, 5:30 to 8 P.M. at Rogers Elementary School, 7700 Fine Road, Mehlville, MO 63129.

ADDRESSES: Comments regarding the scope of the DSEIS should be addressed to Mr. Joseph E. Cothern, U.S. Environmental Protection Agency, 901 N. 5th Street, Kansas City, Kansas 66101. Comments should be received on or before June 15, 2000, at the above address. Written comments may also be sent by facsimile to 913/551-8752 or e-mail at cothern.joe@epa.gov. Comments received will be available for public inspection by appointment during normal business hours (7:30 a.m. to 4:30 p.m., Monday through Friday) at the above office; please call (913) 551-7148 for an appointment. All comments received will become part of the administrative record and may be released.

FOR FURTHER INFORMATION CONTACT: Contact Joseph E. Cothern at the above address and telephone number.

SUPPLEMENTARY INFORMATION: The Lower Meramec River Basin drainage area lies in the southern and southwestern portions of St. Louis County within the chartered jurisdiction of the Metropolitan St. Louis Sewer District (MSD). Areas in adjacent northern Jefferson County are also tributary. The MSD is empowered to enter into contractual agreements with other authorities, and has provided contract wastewater treatment for the City of Arnold (located in Jefferson County) since 1982 at the Lower Meramec Interim Treatment Lagoons at the site of the proposed regional plant, near (Meramec) river mile 1.5. This facility currently treats an average of 3.6 MGD.

Other MSD treatment facilities in the service area, (which are being considered for decommissioning in this regionalization project), include (proceeding upstream):

—Baumgartner Treatment Lagoons, near river mile 5.5, acquired in the purchase of a private sewer company in 1977, and upgraded by MSD, with average daily flows of 7.95 MGD.

—Fenton Wastewater Treatment Plant, near river mile 15.5, acquired from a private sewer company in 1979, and upgraded by MSD, presently providing secondary treatment for average daily flows of 4.0 MGD.

—Grand Glaize Wastewater Treatment Plant, near river mile 20, constructed by MSD in 1983 to provide secondary treatment for 20 MGD, and currently receiving average daily flows of 17.7 MGD.

Dated: May 2, 2000.
William Rice,
Acting Regional Administrator, Region 7.

[FR Doc. 00-12019 Filed 5-11-00; 8:45 am]

BILLING CODE 6560-50-P